ENVIRONMENTAL PROTECTION AGENCY

40 CFR Part 52

[SIP No. CO-001-0068; FRL-7397-3]

Approval and Promulgation of Air Quality Implementation Plans; State of Colorado

AGENCY: Environmental Protection Agency (EPA).

ACTION: Proposed rule.

SUMMARY: EPA is proposing to approve a State Implementation Plan (SIP) revision submitted by the Governor of Colorado on November 5, 1999. The November 5, 1999 submittal exempts military training exercises at the United States Army Installation Fort Carson and United States Army Pinon Canon Maneuver Site (PCMS) from opacity limits. The intended effect of this action is to allow the use of smoke and obscurants for military training exercises when operated under applicable requirements. This action is being taken under section 110 of the Clean Air Act (CAA).

DATES: Written comments must be received on or before November 22, 2002.

ADDRESSES: Written comments may be mailed to Richard R. Long, Director, Air and Radiation Program, Mailcode 8P-AR, Environmental Protection Agency (EPA), Region 8, 999 18th Street, Suite 300, Denver, Colorado, 80202. Copies of the documents relevant to this action are available for public inspection during normal business hours at the Air and Radiation Program, Environmental Protection Agency, Region 8, 999 18th Street, Suite 300, Denver, Colorado, 80202. Copies of the State documents relevant to this action are available for public inspection at the Colorado Department of Public Health and Environment, Air Pollution Control Division, 4300 Cherry Creek Drive South, Denver, Colorado 80246-1530.

FOR FURTHER INFORMATION CONTACT: Laurel Dygowski, EPA, Region 8, (303) 312-6144.

SUPPLEMENTARY INFORMATION: Throughout this document wherever “we” or “our” is used means EPA.

I. Analysis of the State Submittal

A. Procedural Background

The CAA requires States to observe certain procedural requirements in developing implementation plans and plan revisions for submission to EPA. Section 110(a)(2) of the Act provides that each implementation plan admitted by a State must be adopted after reasonable notice and public hearing. Section 110(1) of the Act similarly provides that each revision to an implementation plan submitted by a State under the Act must be adopted by such State after reasonable notice and public hearing.

EPA must also determine whether a submittal is complete and therefore warrants further EPA review and action (see section 110(k)(1) and 57 FR 13565). EPA's completeness criteria are set out at 40 CFR part 51, appendix V. EPA attempts to make completeness determinations within 60 days of receiving a submission. However, a submittal is deemed complete by operation of law if a completeness determination is not made by EPA six months after receipt of submission. This submittal became complete by operation of law on May 5, 2000, in accordance with section 110(k)(1)(B) of the Act.

To entertain public comment, the State of Colorado, after providing adequate public notice, held a public hearing on July 17, 1998, to address the revision to the SIP. Following the public hearing and public comment period, the Colorado Air Quality Control Commission adopted the revision. The revision to Regulation No. 1 was adopted on July 17, 1998, and the Governor of Colorado submitted the revisions to the SIP with a letter dated November 5, 1999.

B. Summary of SIP Revision

Regulation No. 1 Emission Control for Particulates, Smokes, Carbon Monoxide and Sulfur Dioxide

Colorado has added a new subsection D to Regulation No. 1, section II, which provides an exemption for U.S. military training exercises at the United States Army Installation Fort Carson and the United States Army Pinon Canon Maneuver Site (PCMS) from opacity limits. The emissions of fog oil and other short duration military smokes, of twelve minutes or less, will be exempted from the opacity limits specified in Regulation No. 1, section II. Regulation No. 1, section II.A currently mandates “. . . no owner or operator of a source shall allow or cause the emission into the atmosphere of any air pollutant which is in excess of 20% opacity.” The military engages in training which creates emissions in excess of the 20% opacity standard, thus this exemption is necessary for the military to carry out realistic obscurant training.

The exemption is only granted if other restrictions are met, including the following: A three kilometer buffer zone for the entire perimeter of Fort Carson and PCMS is required, and no smoke generation will occur within this buffer zone; smoke generation will cease if smoke crosses or is in danger of crossing the boundary of Fort Carson or PCMS; and an observer will be posted to determine if training should be halted if there is potential for the smoke to drift across the boundary of Fort Carson and PCMS.

A modeling analysis of the smoke training exercises was conducted in an effort to determine the ambient air impacts at locations outside the Ft. Carson boundary. However, the modeling study did not address a potential maximum emissions scenario where a larger quantity of emissions could be emitted at locations closer to the property boundary. The report also did not address the possibility that certain smoke generation activities may release smaller particles which would stay airborne longer and be more likely to impact off-site receptors. In addition, the period of meteorological data that was used in the modeling study was insufficient to characterize the most adverse meteorological conditions that can occur in the Ft. Carson area. Therefore, EPA believes the modeling results are inconclusive, and our proposed approval of the opacity exemption is not based on these results. Several monitoring studies were also conducted over a period of years and the results of these studies were included with this SIP revision. However, it is not clear whether the monitoring data was collected during the Army's smoke training exercises, thus these data were also not used as a basis for the proposed approval of Colorado's SIP revision.

As stated above, the military engages by design in training that creates emissions in excess of the 20% opacity standard. Based on this fact and the restrictions that are imposed on the military's use of smokes by the proposed rule, the EPA is proposing to approve this SIP revision.

II. Proposed Action

EPA is proposing to approve revisions Colorado's Regulation No. 1, submitted on November 5, 1999. EPA is soliciting public comments on the issues discussed in this document or on other relevant matters. These comments will be considered before taking final action. Interested parties may participate in the Federal rulemaking procedure by submitting written comments to the EPA Regional office listed in the Addresses section of this document.

Section 110(l) of the Clean Air Act states that a SIP revision cannot be approved if the revision would interfere with any applicable requirement concerning attainment and reasonable further progress towards attainment of the NAAQS or any other applicable requirements of the Act. The Colorado SIP revisions that are the subject of this document do not interfere with the maintenance of the NAAQS or any other applicable requirement of the Act because the State of Colorado is requiring that an observer be placed to visibly determine whether the smoke is in danger of crossing the perimeter and will cease smoke generation if this occurs. This is protective of the NAAQS because PM10 concentrations are clearly visible to the human eye at levels much lower than the 24 hour PM10 NAAQS. Therefore, section 110(l) requirements are satisfied.

III. Administrative Requirements

Under Executive Order 12866 (58 FR 51735, October 4, 1993), this proposed action is not a “significant regulatory action” and therefore is not subject to review by the Office of Management and Budget. For this reason, this action is also not subject to Executive Order 13211, “Actions Concerning Regulations That Significantly Affect Energy Supply, Distribution, or Use” (66 FR 28355, May 22, 2001). This proposed action merely proposes to approve state law as meeting Federal requirements and imposes no additional requirements beyond those imposed by state law. Accordingly, the Administrator certifies that this proposed rule will not have a significant economic impact on a substantial number of small entities under the Regulatory Flexibility Act (5 U.S.C. 601 et seq.). Because this rule proposes to approve pre-existing requirements under state law and does not impose any additional enforceable duty beyond that required by state law, it does not contain any unfunded mandate or significantly or uniquely affect small governments, as described in the Unfunded Mandates Reform Act of 1995 (Public Law 104-4).

This proposed rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely proposes to approve a state rule implementing a Federal standard, and does not alter the relationship or the distribution of power and responsibilities established in the Clean Air Act. This proposed rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This proposed rule does not impose an information collection burden under the provisions of the Paperwork Reduction Act of 1995 (44 U.S.C. 3501 et seq.).

List of Subjects in 40 CFR Part 52

Environmental protection, Air pollution control, Intergovernmental relations, Particulate matter, Reporting and recordkeeping requirements.

Authority: 42 U.S.C. 7401 et seq.

Dated: October 10, 2002.
Jack W. McGraw,
Acting Regional Administrator, Region 8.

[FR Doc. 02-26990 Filed 10-22-02; 8:45 am]

BILLING CODE 6560-50-P